DEPARTMENT OF HOMELAND SECURITY

Federal Emergency Management Agency

[Docket ID: FEMA-2017-0030; OMB No. 1660-0142]

Agency Information Collection Activities: Submission for OMB Review; Comment Request; Survivor Sheltering Assessment

AGENCY: Federal Emergency Management Agency, DHS.

ACTION: Notice and request for comments.

SUMMARY: The Federal Emergency Management Agency (FEMA) will submit the information collection abstracted below to the Office of Management and Budget for review and clearance in accordance with the requirements of the Paperwork Reduction Act of 1995. The submission will describe the nature of the information collection, the categories of respondents, the estimated burden (i.e., the time, effort and resources used by respondents to respond) and cost, and the actual data collection instruments FEMA will use.

DATES: Comments must be submitted on or before March 5, 2018.

ADDRESSES: Submit written comments on the proposed information collection to the Office of Information and Regulatory Affairs, Office of Management and Budget. Comments should be addressed to the Desk Officer for the Department of Homeland Security, Federal Emergency Management Agency, and sent via electronic mail to dhsdeskofficer@omb.eop.gov.

FOR FURTHER INFORMATION CONTACT: Requests for additional information or copies of the information collection should be made to Director, Records Management Division, 500 C Street SW, Washington, DC 20472, email address FEMA-Information-Collections-Management@fema.dhs.gov or Leah Davis, Program Manager, Disaster Management Support Environment, Recovery Technology Programs Division, 540-686-3227.

SUPPLEMENTARY INFORMATION: This proposed information collection previously published in the Federal Register on November 22, 2017 at 82 FR 55622 with a 60-day public comment period. No comments were received regarding information collection 1660-0142. The purpose of this notice is to notify the public that FEMA will submit the information collection abstracted below to the Office of Management and Budget for review and clearance.

Collection of Information

Title: Survivor Sheltering Assessment.

Type of Information Collection: Currently approved information collection with change.

OMB Number: OMB No. 1660-0142.

Form Titles and Numbers: FEMA Form 09-0-42, Survivor Sheltering Assessment.

Abstract: When a Presidential federally declared disaster or emergency occurs, impacted survivors often find themselves temporarily housed in shelters until they are able to return to their homes or find other housing solutions while they recovery. A FEMA employee will interview individual survivors located in shelters regarding the registration status and housing situation using an electronic copy of FEMA Form 009-0-42 Survivor Sheltering Assessment to record the information in the Disaster Management Support Environment Cloud Environment (DMSE CE) database. The purpose of this survey is to help FEMA understand how best it can support survivors as they transition out of temporary shelters. No information given will be used to determine eligibility for assistance. Eligibility for assistance will only be determined through the separate registration process.

Affected Public: Individuals and Households.

Estimated Number of Respondents: 31,200.

Estimated Number of Responses: 31,200.

Estimated Total Annual Burden Hours: 5,201.

Estimated Total Annual Respondent Cost: $181,203.

Estimated Respondents' Operation and Maintenance Costs: None.

Estimated Respondents' Capital and Start-Up Costs: None.

Estimated Total Annual Cost to the Federal Government: $273,356.

Comments

Comments may be submitted as indicated in the ADDRESSES caption above. Comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses.

Dated: January 26, 2018.
William Holzerland,
Director, Information Management Divison, Mission Support, Federal Emergency Management Agency, Department of Homeland Security.

[FR Doc. 2018-02011 Filed 1-31-18; 8:45 am]

BILLING CODE 9111-23-P